DEPARTMENT OF VETERANS AFFAIRS

Advisory Committee on Former Prisoners of War; Notice of Meeting

The Department of Veterans Affairs (VA) gives notice under Public Law 92-463 (Federal Advisory Committee Act) that the Advisory Committee on Former Prisoners of War has scheduled a meeting for April 6-8, 2009, at the VA Central Office, 810 Vermont Avenue, Washington, DC, from 9 a.m. until 4 p.m. each day. The sessions will be held in Room 930 on April 6, in Room 430 on April 7 and in room 230 on April 8. The meeting is open to the public.

The purpose of the Committee is to advise the Secretary of Veterans Affairs on the administration of benefits under title 38, United States Code, for Veterans who are former prisoners of war, and to make recommendations on the needs of such Veterans for compensation, health care, and rehabilitation.

The agenda for the meeting will include remarks from VA officials, a review of previous committee reports, an update of activities since the last meeting, and a period for Veterans and/or the public to address the Committee. The Committee will review comments discussed throughout the meeting to compile a report.

Members of the public may submit written statements for review by the Committee in advance of the meeting to Mr. Bradley G. Mayes, Director, Compensation and Pension Service, Department of Veterans Affairs, 810 Vermont Avenue, NW., Washington, DC 20420. Submitted materials must be received by March 31, 2008.

Dated: March 17, 2009.
By Direction of the Secretary:
E. Philip Riggin,
Committee Management Officer.

[FR Doc. E9-6107 Filed 3-19-09; 8:45 am]

BILLING CODE 8320-01-P